DEPARTMENT OF AGRICULTURE

Animal and Plant Health Inspection Service

7 CFR Part 319

[Docket No. APHIS-2012-0014]

RIN 0579-AD68

Importation of Papayas From Peru

AGENCY: Animal and Plant Health Inspection Service, USDA.

ACTION: Final rule.

SUMMARY: We are amending the regulations to allow, under certain conditions, the importation of commercial consignments of fresh papayas from Peru into the continental United States. The conditions for the importation of papayas from Peru will include requirements for approved production locations; field sanitation; hot water treatment; procedures for packing and shipping the papayas; and fruit fly trapping in papaya production areas. This action will allow for the importation of papayas from Peru while continuing to provide protection against the introduction of quarantine pests into the continental United States.

DATES: Effective May 26, 2015.

FOR FURTHER INFORMATION CONTACT: Ms. Dorothy Wayson, Senior Regulatory Coordination Specialist, Regulatory Coordination and Compliance, PPQ, APHIS, 4700 River Road, Unit 133, Riverdale, MD 20737-1231; (301) 851-2036.

SUPPLEMENTARY INFORMATION:

Background

The regulations in “Subpart-Fruits and Vegetables” (7 CFR 319.56-1 through 319.56-71, referred to below as the regulations) prohibit or restrict the importation of fruits and vegetables into the United States from certain parts of the world to prevent the introduction and dissemination of plant pests that are new to or not widely distributed within the United States. The national plant protection organization (NPPO) of Peru has requested that the Animal and Plant Health Inspection Service (APHIS) amend the regulations to allow fresh papayas (Carica papaya) to be imported from Peru into the continental United States.

On August 9, 2013, we published in the Federal Register (78 FR 48628-48631, Docket No. APHIS-2012-0014) a proposal ¹ to amend the regulations to allow, under certain conditions, the importation of commercial consignments of fresh papayas from Peru into the continental United States. Consistent with the risk management document that accompanied the proposed rule, we proposed to require that the papayas be subjected to a systems approach to pest mitigation. This proposed systems approach included requirements to produce the papayas at places of production registered with the NPPO of Peru, required packing procedures designed to exclude quarantine pests, and required fruit fly trapping, field sanitation, and hot water treatment to remove pests of concern from the pathway. We proposed to allow only commercial consignments of papayas to be imported from Peru and to require that consignments of papayas from Peru be accompanied by a phytosanitary certificate issued by the NPPO of Peru stating that the papayas were grown, packed, and shipped in accordance with the proposed requirements.

¹ To view the proposed rule and the comment we received, go to http://www.regulations.gov/#!docketDetail;D=APHIS-2012-0014.

We solicited comments concerning our proposal for 60 days ending October 8, 2013. We received one comment by that date, from a private citizen. The commenter supported the risk mitigation approach in the proposed rule, but suggested that an integrated pest management approach might also be effective at managing the risk associated with Ceratitis capitata, the Mediterranean fruit fly.

We based the proposed risk mitigations on those in § 319.56-25, which have allowed the pest-free importation of papaya from certain areas of Brazil, Central America, Colombia, and Ecuador. We are open to alternative approaches of mitigating C. capitata, although we would need a request from the NPPO of Peru to be submitted in accordance with § 319.5 to begin considering such approaches.

Therefore, for the reasons given in the proposed rule and in this document, we are adopting the proposed rule as a final rule, without change.

Executive Order 12866 and Regulatory Flexibility Act

This final rule has been determined to be not significant for the purposes of Executive Order 12866 and, therefore, has not been reviewed by the Office of Management and Budget.

In accordance with the Regulatory Flexibility Act, we have analyzed the potential economic effects of this action on small entities. The analysis is summarized below. Copies of the full analysis are available on the Regulations.gov Web site (see footnote 1 in this document for a link to Regulations.gov) or by contacting the person listed under FOR FURTHER INFORMATION CONTACT.

This final rule will allow the importation of fresh papaya fruit from Peru into the continental United States. Papaya is a relatively minor crop in the United States that is primarily grown in Hawaii and, to a lesser extent, in Florida. Very small acreages of papaya are found in Texas and California.

Peru is expected to ship up to 36 metric tons of fresh papaya to the United States per year. This amount will be equivalent to less than 0.03 percent of net imports of fresh papaya by the United States in 2012. With U.S. net imports estimated to be at least eight times as large as U.S. fresh papaya production, any market effects of such a relatively negligible change in papaya imports are as likely to impact foreign suppliers as they are U.S. producers. In addition, effects for the majority of U.S. papaya producers, who are located in Hawaii, will be further muted by the prohibition on entry of fresh papaya from Peru into that State. While most, if not all, U.S. papaya farms are small entities, we expect this final rule to have a very minor impact regardless of the size of operation.

Under these circumstances, the Administrator of the Animal and Plant Health Inspection Service has determined that this action will not have a significant economic impact on a substantial number of small entities.

Executive Order 12988

This final rule allows papayas to be imported into the continental United States from Peru. State and local laws and regulations regarding papayas imported under this rule will be preempted while the fruit is in foreign commerce. Fresh fruits are generally imported for immediate distribution and sale to the consuming public, and remain in foreign commerce until sold to the ultimate consumer. The question of when foreign commerce ceases in other cases must be addressed on a case-by-case basis. No retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this final rule, which were filed under 0579-0410, have been submitted for approval to the Office of Management and Budget (OMB). When OMB notifies us of its decision, if approval is denied, we will publish a document in the Federal Register providing notice of what action we plan to take.

E-Government Act Compliance

The Animal and Plant Health Inspection Service is committed to compliance with the E-Government Act to promote the use of the Internet and other information technologies, to provide increased opportunities for citizen access to Government information and services, and for other purposes. For information pertinent to E-Government Act compliance related to this rule, please contact Ms. Kimberly Hardy, APHIS' Information Collection Coordinator, at (301) 851-2727.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319-FOREIGN QUARANTINE NOTICES

1. The authority citation for part 319 continues to read as follows:

Authority: 7 U.S.C. 450 and 7701-7772 and 7781-7786; 21 U.S.C. 136 and 136a; 7 CFR 2.22, 2.80, and 371.3.

§ 319.56-25 [Amended]

2. Section 319.56-25 is amended as follows:

a. In paragraph (b), by removing the words “or Ecuador” and adding the words “, Ecuador, or Peru” in their place.

b. In paragraph (g)(2), by adding the word “Peru,” after the word “Ecuador,”.

c. In paragraph (h), by removing the citation “(h)” and adding the citation “(g)” in its place.

d. In the OMB citation at the end of the section, by removing the words “0579-0128 and 0579-0358” and adding the words “0579-0128, 0579-0358, and 0579-0410” in their place.

Done in Washington, DC, this 20th day of April 2015.
Kevin Shea,
Administrator, Animal and Plant Health Inspection Service.

[FR Doc. 2015-09576 Filed 4-23-15; 8:45 am]

BILLING CODE 3410-34-P